DEPARTMENT OF THE INTERIOR

Bureau of Land Management

[LLNVC02000 L16200000.HP0000 241A MO# 4500074361 TAS: 15X]

Notice of Temporary Closure of Public Land in Storey County, NV

AGENCY: Bureau of Land Management, Interior.

ACTION: Notice.

SUMMARY: As authorized under the provisions of the Federal Land Policy and Management Act of 1976 (FLPMA), as amended, the Bureau of Land Management (BLM) Carson City District Office will temporarily close certain public land surrounding and including the abandoned man-made structures and features, known as the American Flat Mill, in Storey County, Nevada, to all public use. This action would provide for public safety during demolition and reclamation activities occurring at the site.

DATES: The temporary closure will go into effect upon publication in the Federal Register, not to exceed a period of 24 months.

FOR FURTHER INFORMATION CONTACT: Leon Thomas, 775-885-6000, email: l70thoma@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The American Flat Mill is an abandoned mining feature located within the Virginia City National Historic Landmark. At the time of its completion in 1922, it was the largest concrete mill structure in the world utilizing cyanide extraction to process silver ore. Following a substantial decrease in silver prices in 1924, the operation never recovered and the mill was dismantled in 1927. Only the deteriorated concrete skeleton of the mill remains today. The BLM plans on abating the substantial physical safety hazard posed by the American Flat Mill by demolishing the remaining buildings. Public land surrounding and including the American Flat Mill will be closed to public entry for the duration of demolition and reclamation activities. The public land affected by this closure is described as follows:

Mount Diablo Meridian

T. 16 N., R. 21 E.,

Sec. 6, E½SE¼SE¼, SE¼NE¼SE¼;

Sec. 7, NE¼.

The area described contains 190 acres, more or less, in Storey County, Nevada.

The closure notice, communications plan and map of the closure area will be posted at the BLM Carson City District Office, 5665 Morgan Mill Road, Carson City, Nevada and on the BLM Web site: http://www.blm.gov/nv/st/en/fo/carson_city_field.html. Roads leading into the public lands under the closure will be posted to notify the public of the closure. Under the authority of Section 303(a) of the FLPMA (43 U.S.C. 1733(a)), 43 CFR 8360.0-7 and 43 CFR 8364.1, the BLM will enforce the following rules in the area described above: All public use, whether motorized, on foot, or otherwise, is prohibited.

Exceptions: Closure restrictions do not apply to demolition activities conducted under contract with the BLM; agency personnel monitoring the demolition; or mining activities conducted under an approved plan of operation. Authorized users must have in their possession, a written permit or contract from BLM signed by the authorized officer.

Penalties: Any person who fails to comply with the closure orders is subject to arrest and, upon conviction, may be fined not more than $1,000 and/or imprisonment for not more than 12 months under 43 CFR 8360.0-7. Violations may also be subject to the provisions of Title 18, U.S.C. 3571 and 3581.

Leon Thomas,
Field Manager, Sierra Front Field Office.

(Authority: 43 CFR 8360.0-7 and 8364.1)

[FR Doc. 2015-09821 Filed 4-29-15; 8:45 am]

BILLING CODE 4310-HC-P